DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Jefferson (FEMA Docket No: B-7727) | Unincorporated areas of Jefferson County (06-04-BU17P) | June 28, 2007; July 5, 2007; Birmingham News | The Honorable Bettye Collins, President, Jefferson County Commission, Jefferson County, 716 Richard Arrington Jr. Boulevard North, Birmingham, Alabama 35203 | December 27, 2006 | 010217
St. Clair (FEMA Docket No: B-7727) | St. Clair County (07-04-1138P) | June 28, 2007; July 5, 2007; St. Clair News-Aegis | The Honorable Stanley D. Batemon, Chairman, St. Clair County Board of Commissioners, 165 Fifth Avenue, Suite 100, Ashville, Alabama 35953 | July 24, 2007 | 010290
Arizona: Yavapai (FEMA Docket No: B-7727) | City of Prescott (07-09-0776P) | June 14, 2007; June 21, 2007; Prescott Daily Courier | The Honorable Rowle Simmons, Mayor, City of Prescott, 201 South Cortez Street, Prescott, Arizona 86303 | May 21, 2007 | 040098
Arkansas:
Benton (FEMA Docket No: B-7727) | City of Bentonville (06-06-B146P) | January 5, 2007; January 12, 2007; Benton County Daily Record | The Honorable Terry Coberly, Mayor, City of Bentonville, City Hall, 117 West Central, Bentonville, Arkansas 72712 | December 13, 2006 | 050012
Benton (FEMA Docket No: B-7727) | City of Rogers (06-06-lBJ72P) | April 18, 2007; April 25, 2007; Benton County Daily Record | The Honorable Steve Womack, Mayor, City of Rogers, 301 West Chestnut Street, Rogers, Arkansas 72756 | March 23, 2007 | 050013
Benton (FEMA Docket No: B-7727) | Unincorporated Areas of Benton County (06-06-B146P) | January 5, 2007; January 12, 2007; Benton County Daily Record | The Honorable Gary Black, Benton County Judge, 905 Northwest Eighth Street, Bentonville, Arkansas 72712 | December 13, 2006 | 050419
Craighead (FEMA Docket No: B-7727) | City of Jonesboro (07-06-0299P) | June 22, 2007; June 29, 2007; The Jonesboro Sun | The Honorable Doug Forman, Mayor, City of Jonesboro, 515 West Washington Avenue, Jonesboro, Arkansas 72401 | June 25, 2007 | 050048
Lonoke (FEMA Docket No: B-7722) | City of Ward (07-06-1213P) | May 17, 2007; May 24, 2007; Lonoke Democrat | The Honorable Art Brook, Mayor, City of Ward, P.O. Box 237, Ward, AR 72176 | April 30, 2007 | 050372
California:
Riverside (FEMA Docket No: B-7727) | City of Corona (07-09-0879P) | June 14, 2007; June 21, 2007; The Press-Enterprise | The Honorable Eugene Montanez, Mayor, City of Corona, 400 South Vicentia Avenue, Corona, California 92882 | May 31, 2007 | 060250
Riverside (FEMA Docket No: B-7722) | City of Murrieta (07-09-0801P) | May 24, 2007; May 31, 2007; The Californian | The Honorable Douglas R. McAllister, Mayor, City of Murrieta, 26442 Beckman Court, Murrieta, CA 92562 | August 30, 2007 | 060751
San Diego (FEMA Docket No: B-7722) | City of Vista (07-09-0589P) | May 24, 2007; May 31, 2007; San Diego Transcript | The Honorable Morris Vance, Mayor, City of Vista, P.O. Box 1988, Vista, CA 92085 | August 30, 2007 | 060297
San Diego (FEMA Docket No: B-7727) | Unincorporated Areas of San Diego County (07-09-0601P) | June 21, 2007; June 28, 2007; San Diego Daily Transcript | The Honorable Ron Roberts , Chairman, San Diego County Board of Supervisors, County Administration Center, 1600 Pacific Highway, Room 335, San Diego, California 92101 | September 27, 2007 | 060284
Colorado:
El Paso (FEMA Docket No: B-7727) | City of Colorado Springs (05-08-0638P) | January 17, 2007; January 24, 2007; El Paso County News | The Honorable Lionel Rivera, Mayor, City of Colorado Springs, P.O. Box 1575, Colorado Springs, Colorado 80901 | April 18, 2007 | 080060
El Paso (FEMA Docket No: B-7722) | City of Colorado Springs (06-08-B643P) | May 23, 2007; May 30, 2007; El Paso County Advertiser and News | The Honorable Lionel Rivera, Mayor, City of Colorado Springs, P.O. Box 1575, Colorado Springs, CO 80901 | August 29, 2007 | 080060
El Paso (FEMA Docket No: B-7722) | Unincorporated areas of El Paso County (06-08-B643P) | May 23, 2007; May 30, 2007; El Paso County Advertiser and News | The Honorable Dennis Hisey, Chairman, El Paso County Board of Commissioners, 27 East Vermijo Avenue, Colorado Springs, CO 80903 | August 29, 2007 | 080059
El Paso (FEMA Docket No: B-7727) | Unincorporated Areas of El Paso County (05-08-0638P) | January 17, 2007; January 24, 2007; El Paso County News | The Honorable Sallie Clark, Chairperson, El Paso County Board of Commissioners, 27 East Vermijo Avenue, Colorado Springs, Colorado 80903 | April 18, 2007 | 080059
Jefferson (FEMA Docket No: B-7727) | City of Golden (06-08-B552P) | June 14, 2007; June 21, 2007; The Golden Transcript | The Honorable Charles J. Baroch, Mayor, City of Golden, 701 Ridge Road, Golden, Colorado 80403 | September 20, 2007 | 080090
Jefferson (FEMA Docket No: B-7727) | City of Golden (07-08-0043P) | June 21, 2007; June 28, 2007; The Golden Transcript | The Honorable Charles J. Baroch, Mayor, City of Golden, 701 Ridge Road, Golden, Colorado 80403 | September 27, 2007 | 080090
Jefferson (FEMA Docket No: B-7727) | City of Lakewood (07-08-0439P) | June 14, 2007; June 21, 2007; The Golden Transcript | The Honorable Steve Burkholder, Mayor, City of Lakewood, Lakewood Civic Center, South 480 South Allison Parkway, Lakewood, Colorado 80226 | September 20, 2007 | 085075
Jefferson (FEMA Docket No: B-7727) | Unincorporated Areas of Jefferson County (06-08-B552P) | June 14, 2007; June 21, 2007; The Golden Transcript | The Honorable Jim Congrove, Chairman, Jefferson County Board of Commissioners, 100 Jefferson County Parkway, Golden, Colorado 80419-5550 | September 20, 2007 | 080087
Delaware:
New Castle (FEMA Docket No: B-7727) | Unincorporated Areas of New Castle County (07-03-0410P) | June 15, 2007; June 22, 2007; Newark Post | The Honorable Chris Coons, County Executive, New Castle County, 87 Reads Way, New Castle, Delaware 19720 | May 18, 2007 | 105085
New Castle (FEMA Docket No: B-7738) | Unincorporated areas of New Castle County (07-03-0823P) | July 13, 2007; July 20, 2007; Newark Post | The Honorable Chris Coons, New Castle County Executive, 87 Read's Way, New Castle, DE 19720 | October 19, 2007 | 105085
Florida:
Orange (FEMA Docket No: B-7727) | City of Orlando (05-04-A581P) | June 21, 2007; June 28, 2007; Orlando Weekly | The Honorable Buddy Dyer, Mayor, City of Orlando, P.O. Box 4990, Orlando, Florida 32802 | September 27, 2007 | 120186
Walton (FEMA Docket No: B-7727) | Unincorporated Areas of Walton County (07-04-2769P) | June 21, 2007; June 28, 2007; Northwest Florida Daily News | The Honorable Kenneth Pridgen, Chairman, Walton County, Board of Commissioners, 17400 State Highway 83 North, DeFuniak Springs, Florida 32433 | September 27, 2007 | 120317
Georgia:
Bryan (FEMA Docket No: B-7727) | City of Richmond Hill (07-04-0419P) | May 23, 2007; May 30, 2007; Bryan County News | The Honorable Richard R. Davis, Mayor, City of Richmond Hill, P.O. Box 250, Richmond Hill, Georgia 31324 | August 30, 2007 | 130018
Whitfield (FEMA Docket No: B-7727) | City of Dalton (07-04-3918X) | June 1, 2007; June 8, 2007; Dalton Daily Citizen | The Honorable Raymond A. Elrod, Sr., Mayor, City of Dalton, P.O. Box 1205, Dalton, Georgia 30722 | September 20, 2007 | 130194
Illinois:
Cook (FEMA Docket No: B-7727) | Village of Elk Grove (07-05-2483P) | June 13, 2007; June 25, 2007; Elk Grove Journal | The Honorable Craig B. Johnson, Mayor, Village of Elk Grove, 901 Wellington Avenue, Elk Grove, Illinois 60007 | August 30, 2007 | 170088
Cook (FEMA Docket No: B-7722) | Village of Tinley Park (06-05-C262P) | May 17, 2007; May 24, 2007; Daily Herald | The Honorable Edward J. Zabrocki, Mayor, Village of Tinley Park, 16250 South Oak Park Avenue, Tinley Park, IL 60477 | April 25, 2007 | 170169
Cook (FEMA Docket No: B-7722) | Unincorporated areas of Cook County (06-05-C262P) | May 17, 2007; May 24, 2007; Daily Herald | The Honorable Todd H. Stroger, President, Cook County Board of Supervisors, 118 North Clark Street, Room 537, Chicago, IL 60602 | April 25, 2007 | 170054
Cook (FEMA Docket No: B-7727) | Unincorporated Areas of Cook County (07-05-2483P) | June 13, 2007; June 25, 2007; Elk Grove Journal | The Honorable Todd H. Stroger, President, Cook County Board of Commissioners, 118 North Clark Street, Room 537, Chicago, Illinois 60602 | August 30, 2007 | 170054
Kane (FEMA Docket No: B-7722) | City of Batavia (06-05-BP93P) | May 10, 2007; May 17, 2007; Kane County Chronicle | The Honorable Jeffery Schielke, Mayor, City of Batavia, 100 North Island Avenue, Batavia, IL 60510 | May 16, 2007 | 170321
Kane (FEMA Docket No: B-7722) | Unincorporated areas of Kane County (06-05-BP93P) | May 10, 2007; May 17, 2007; Kane County Chronicle | The Honorable Karen McConnaughay, County Board Chairman, Kane County, 719 South Batavia Avenue, Building A, Geneva, IL 60134 | May 16, 2007 | 170896
Lake (FEMA Docket No: B-7727) | Unincorporated Areas of Lake County (07-05-0638P) | June 14, 2007; June 21, 2007; Lake County News-Sun | The Honorable Suzi Schmidt, Chair, Lake County Board, 18 North County Street, Waukegan, Illinois 60085 | June 18, 2007 | 170357
Lake (FEMA Docket No: B-7727) | Village of Round Lake Park (07-05-0638P) | June 14, 2007; June 21, 2007; Lake County News-Sun | The Honorable Jean McCue, Mayor, Village of Round Lake Park, 203 East Lake Shore Drive, Round Lake, Illinois 60073 | June 18, 2007 | 170391
Will (FEMA Docket No: B-7727) | City of Lockport (07-05-0135P) | April 11, 2007; April 25, 2007; Homer Glen Sun | The Honorable Tim Murphy, Mayor, City of Lockport, 222 East Ninth Street, Lockport, Illinois 60441 | July 18, 2007 | 170703
Will (FEMA Docket No: B-7727) | City of Naperville (07-05-0767P) | June 14, 2007; June 21, 2007; Naperville Sun | The Honorable A. George Pradel, Mayor, City of Naperville, 400 South Eagle Street, Naperville, Illinois 60540 | May 24, 2007 | 170213
Will (FEMA Docket No: B-7727) | Unincorporated Areas of Will County (07-05-0135P) | April 11, 2007; April 25, 2007; Homer Glen Sun | The Honorable Lawrence M. Walsh, Will County Executive, 302 North Chicago Street, Joliet, Illinois 60432 | July 18, 2007 | 170695
Will (FEMA Docket No: B-7727) | Unincorporated Areas of Will County (07-05-0767P) | June 14, 2007; June 21, 2007; Naperville Sun | The Honorable Lawrence M. Walsh, Will County Executive, 302 North Chicago Street, Joliet, Illinois 60432 | May 24, 2007 | 170695
Indiana:
DeKalb (FEMA Docket No: B-7722) | City of Butler (07-05-2078P) | May 8, 2007; May 15, 2007; The Butler Bulletin | The Honorable Floyd Coburn, Mayor, City of Butler, 201 South Broadway, Butler, IN 46706 | August 14, 2007 | 180047
DeKalb (FEMA Docket No: B-7722) | Unincorporated areas of DeKalb County (07-05-2078P) | May 8, 2007; May 15, 2007; The Butler Bulletin | The Honorable William C. Ort, Chairman, De Kalb County Board of Commissioners, 100 South Main Street, Auburn, IN 46706 | August 14, 2007 | 180044
Maine:
Knox (FEMA Docket No: B-7738) | City of Rockland (07-01-0484P) | July 19, 2007; July 26, 2007; The Courier-Gazette | The Honorable Brian Harden, Mayor, City of Rockland, 270 Pleasant Street, Rockland, ME 04841 | June 25, 2007 | 230076
York (FEMA Docket No: B-7738) | Town of Kittery (07-01-0122P) | June 14, 2007; June 21, 2007; York County Coast Star | The Honorable Glenn Shwaery, Chair, Kittery Town Council, 200 Rogers Road, Kittery, ME 03904 | July 19, 2007 | 230171
Minnesota: Anoka (FEMA Docket No: B-7727) | City of Blaine (07-05-3169P) | May 18, 2007; May 25, 2007; Blaine-Spring Lake Park Life | The Honorable Thomas Ryan, Mayor, City of Blaine, 10801 Town Square Drive Northeast, Blaine, Minnesota 55449-8101 | April 24, 2007 | 270007
Mississippi:
Leflore (FEMA Docket No: B-7727) | City of Greenwood (06-04-BU48P) | June 21, 2007; June 28, 2007; Greenwood Commonwealth | The Honorable Sheriel Perkins, Mayor, City of Greenwood, P.O. Box 907, Greenwood, Mississippi 38935-0907 | September 27, 2007 | 280102
Leflore (FEMA Docket No: B-7727) | Unincorporated Areas of Leflore County (06-04-BU48P) | June 21, 2007; June 28, 2007; Greenwood Commonwealth | The Honorable Robert Moore, Chairman, Leflore County Council, P.O. Box 250, Greenwood, Mississippi 38935 | September 27, 2007 | 280101
Missouri: Phelps (FEMA Docket No: B-7727) | City of Rolla (07-07-0005P) | June 20, 2007; June 27, 2007; Rolla Daily News | The Honorable William Jenks III, Mayor, City of Rolla, P.O. Box 979, Rolla, Missouri 65402 | September 26, 2007 | 290285
Nebraska:
Saunders (FEMA Docket No: B-7727) | City of Ashland (06-07-B193P) | May 24, 2007; May 31, 2007; The Ashland Gazette | The Honorable Ronna Wigg, Mayor, City of Ashland, 2304 Silver Street, Ashland, Nebraska 68003 | August 30, 2007 | 310196
Saunders (FEMA Docket No: B-7727) | Unincorporated Areas of Saunders County (06-07-B193P) | May 24, 2007; May 31, 2007; The Ashland Gazette | The Honorable Kenneth Kuncl, Chairman, Saunders County Board of Supervisors, 109 North Railway, Prague, Nebraska 68050 | August 30, 2007 | 310195
Nevada: Clark (FEMA Docket No.: B-7712) | Unincorporated areas of Clark County (06-09-BC35P) | November 9, 2006; November 16, 2006; Las Vegas Review-Journal | The Honorable Rory Reid, Clark County Board of Commissioners, 500 South Grand Central Parkway, Las Vegas, NV 89106 | October 24, 2006 | 320003
New York:
Orange (FEMA Docket No: B-7727) | Town of Chester (06-02-B447P) | June 14, 2007; June 21, 2007; Times Herald-Record | Mr. William J. Tully, Town Supervisor, Town of Chester, 1786 Kings Highway, Chester, New York 10918 | November 9, 2007 | 360870
Orange (FEMA Docket No: B-7727) | Village of Chester (06-02-B447P) | June 14, 2007; June 21, 2007; Times Herald-Record | The Honorable Joseph Battiato, Mayor, Village of Chester, 47 Main Street, Chester, New York 10918 | November 9, 2007 | 361541
Ohio:
Licking (FEMA Docket No: B-7727) | City of Newark (06-05-BP23P) | June 14, 2007; June 21, 2007; The Newark Advocate | The Honorable Bruce Bain, Mayor, City of Newark, 40 West Main Street, Newark, Ohio 43055 | September 20, 2007 | 390335
Stark (FEMA Docket No: B-7722) | City of North Canton (07-05-0382P) | May 10, 2007; May 17, 2007; The Repository | The Honorable David J. Held, Mayor, City of North Canton, 145 North Main Street, North Canton, OH 44720 | April 12, 2007 | 390521
Oklahoma:
Cleveland (FEMA Docket No: B-7722) | City of Norman (06-06-B933P) | May 17, 2007; May 24, 2007; The Norman Transcript | The Honorable Harold Haralson, Mayor, City of Norman, P.O. Box 370, Norman, OK 73070 | May 25, 2007 | 400046
Oklahoma (FEMA Docket No: B-7727) | City of Oklahoma City (07-06-0604P) | June 14, 2007; June 21, 2007; The Oklahoman | The Honorable Mick Cornett, Mayor, City of Oklahoma City, 200 North Walker Street, Third Floor, Oklahoma City, Oklahoma 73102 | May 22, 2007 | 405378
Oregon: Columbia (FEMA Docket No: B-7727) | City of St. Helens (07-10-0169P) | June 20, 2007; June 27, 2007; Scappoose South County Spotlight | The Honorable Randy Peterson, Mayor, City of St. Helens, P.O. Box 278, St. Helens, Oregon 97051 | September 26, 2007 | 410040
Pennsylvania:
Blair (FEMA Docket No: B-7722) | Borough of Tyrone (07-03-0770P) | May 24, 2007; May 31, 2007; Altoona Mirror | Mr. George Mason, Borough Manager, Borough of Tyrone, 1100 Logan Avenue, Tyrone, PA 16686 | April 30, 2007 | 420164
Blair (FEMA Docket No: B-7722) | Township of Snyder (07-03-0770P) | May 24, 2007; May 31, 2007; Altoona Mirror | The Honorable Charles Diehl, Chairman, Snyder Township Board of Supervisors, Township Building. R.D. 3, Tyrone, PA 16686 | April 30, 2007 | 421393
Berks (FEMA Docket No: B-7738) | Township of Lower Heidelberg (07-03-0867X) | July 12, 2007; July 19, 2007; Readling Eagle | The Honorable R. David Seip, Chairman, Board of Supervisors, Lower Heidelberg Township, Township Offices, 720 Brownsville Road, Sinking Spring, PA 19608 | October 18, 2007 | 421077
Chester (FEMA Docket No: B-7727) | Borough of South Coatesville (07-03-0866X) | June 28, 2007; July 5, 2007; The Daily Local | The Honorable Gregory V. Hines, Council President, Borough of Coatesville, 136 Modena Road, South Coatesville, Pennsylvania 19320 | June 11, 2007 | 420288
Puerto Rico:
Puerto Rico (FEMA Docket No: B-7722) | Commonwealth of Puerto Rico (06-02-B001P) | May 17, 2007; May 24, 2007; The San Juan Star | The Honorable Anibal Acevedo-Vila, Governor of the Commonwealth of Puerto Rico, P.O. Box 82, La Fortaleza, San Juan, PR 00901 | August 23, 2007 | 720000
Puerto Rico (FEMA Docket No: B-7727) | Commonwealth of Puerto Rico (07-02-0196P) | May 25, 2007; May 31, 2007; The San Juan Star | The Honorable Anibal Acevedo-Vila, Governor of Commonwealth of Puerto Rico, P.O. Box 82, La Fortaleza, San Juan, Puerto Rico 00901 | July 19, 2007 | 720000
South Carolina:
Anderson (FEMA Docket No: B-7727) | Unincorporated Areas of Anderson County (06-04-C085P) | May 17, 2007; May 24, 2007; Anderson Independent-Mail | Mr. Joey R. Preston, County Administrator, Anderson County, P.O. Box 8002, Anderson, South Carolina 29622 | July 26, 2007 | 450013
Berkeley (FEMA Docket No: B-7727) | Unincorporated Areas of Berkeley County (06-04-C284P) | June 20, 2007; June 27, 2007; The Berkeley Independent | The Honorable Daniel W. Davis, Supervisor and County Council Chairman, Berkeley County, 1003 Highway 52, Moncks Corner, South Carolina 29461 | September 26, 2007 | 450029
Richland (FEMA Docket No: B-7727) | Unincorporated Areas of Richland County (07-04-3361P) | June 15, 2007; June 22, 2007; The Columbia Star | The Honorable Joseph McEachern, Chairman, Richland County Council, Richland County Administrative Building, 2020 Hampton Street, Second Floor, Columbia, South Carolina 29204 | September 21, 2007 | 450170
Texas:
Bandera (FEMA Docket No: B-7727) | Unincorporated Areas of Bandera County (06-06-BJ92P) | June 20, 2007; June 27, 2007; The Bandera Bulletin | The Honorable Richard A. Evans, Bandera County Judge, P.O. Box 877, Bandera, Texas 78003 | September 26, 2007 | 480020
Bastrop (FEMA Docket No: B-7727) | City of Elgin (07-06-0779P) | May 16, 2007; May 23, 2007; Elgin Courier | The Honorable Gladys Markert, Mayor, City of Elgin, 310 North Main Street, Elgin, Texas 78621 | August 30, 2007 | 480023
Bexar (FEMA Docket No: B-7722) | City of San Antonio (07-06-0242P) | May 17, 2007; May 24, 2007; Daily Commercial Recorder | The Honorable Phil Hardberger, Mayor, City of San Antonio, P.O. Box 839966, San Antonio, TX 78283 | April 30, 2007 | 480045
Bexar (FEMA Docket No: B-7727) | City of San Antonio (07-06-0434P) | July 5, 2007; July 12, 2007; Daily Commercial Recorder | The Honorable Phil Hardberger, Mayor, City of San Antonio, P.O. Box 839966, San Antonio, Texas 78283 | October 11, 2007 | 480045
Bexar (FEMA Docket No: B-7727) | City of Shavano Park (06-06-BK20P) | June 21, 2007; June 28, 2007; Daily Commercial Recorder | The Honorable David A. Marne, Mayor, City of Shavano Park, 900 Saddle Tree Court, Shavano Park, Texas 78231 | September 27, 2007 | 480047
Collin (FEMA Docket No: B-7727) | City of Allen (06-06-B489P) | June 14, 2007; June 21, 2007; The Allen American | The Honorable Stephen Terrell, Mayor, City of Allen, 305 Century Parkway, Allen, Texas 75013 | July 2, 2007 | 480131
Collin (FEMA Docket No: B-7722) | City of Melissa (07-06-0946P) | May 17, 2007; May 24, 2007; McKinney Courier-Gazette | The Honorable David Dorman, Mayor, City of Melissa, 901 State Highway 121, Melissa, TX 75454 | August 23, 2007 | 481626
Collin (FEMA Docket No: B-7722) | City of Plano (07-06-0506P) | May 17, 2007; May 24, 2007; Plano Star Courier | The Honorable Pat Evans, Mayor, City of Plano, P.O. Box 860358, Plano, TX 75086-0358 | August 23, 2007 | 480140
Comal (FEMA Docket No: B-7727) | Unincorporated Areas of Comal County (06-06-BB92P) | February 22, 2007; March 1, 2007; The Herald-Zeitung | The Honorable Danny Scheel, Comal County Judge, 199 Main Plaza, New Braunfels, Texas 78130 | May 24, 2007 | 485463
Cooke (FEMA Docket No: B-7722) | City of Gainesville (06-06-BH22P) | May 24, 2007; May 31, 2007; Gainesville Daily Register | The Honorable Glenn Loch, Mayor, City of Gainesville, 200 South Rusk Street, Gainesville, TX 76240 | August 30, 2007 | 480154
Dallas (FEMA Docket No: B-7727) | City of Coppell (06-06-BE95P) | June 13, 2007; June 20, 2007; Coppell Gazette | The Honorable Doug Stover, Mayor, City of Coppell, 255 Parkway Boulevard, Coppell, Texas 75019 | September 19, 2007 | 480170
Dallas (FEMA Docket No: B-7727) | City of Dallas (06-06-BE95P) | June 13, 2007; June 20, 2007; Coppell Gazette | The Honorable Laura Miller, Mayor, City of Dallas, 1500 Marilla Street, Room 5/F/N, Dallas, Texas 75201 | September 19, 2007 | 480171
Dallas (FEMA Docket No: B-7727) | City of Irving (06-06-BE95P) | June 13, 2007; June 20, 2007; Coppell Gazette | The Honorable Herbert A. Gears, Mayor, City of Irving, 825 West Irving Boulevard, Irving, Texas 75060 | September 19, 2007 | 480180
Denton (FEMA Docket No: B-7722) | City of Lewisville (07-06-0282P) | May 16, 2007; May 23, 2007; Lewisville Leader | The Honorable Gene Carey, Mayor, City of Lewisville, P.O. Box 299002, Lewisville, TX 75029 | April 30, 2007 | 480195
Hood (FEMA Docket No: B-7727) | City of Granbury (07-06-0376P) | June 20, 2007; June 27, 2007; Hood County News | The Honorable David Southern, Mayor, City of Granbury, 116 West Bridge Street, Granbury, Texas 76048 | September 26, 2007 | 480357
Jones and Taylor (FEMA Docket No: B-7727) | City of Abilene (07-06-1080P) | June 21, 2007; June 28, 2007; Abilene Reporter-News | The Honorable Norm Archilbald, Mayor, City of Abilene, 717 Byrd Drive, Abilene, Texas 79601 | September 27, 2007 | 485450
McLennan (FEMA Docket No: B-7727) | City of Waco (07-06-0187P) | June 21, 2007; June 28, 2007; Waco Tribune-Herald | The Honorable Virginia Dupuy, Mayor, City of Waco, P.O. Box 2570, Waco, Texas 76702 | September 27, 2007 | 480461
McLennan (FEMA Docket No: B-7727) | Unincorporated Areas of McLennan County (07-06-0187P) | June 21, 2007; June 28, 2007; Waco Tribune-Herald | The Honorable Jim Lewis, McLennan County Judge, McLennan County Courthouse, 501 Washington Avenue, Waco, Texas 76701 | September 27, 2007 | 480456
Tarrant (FEMA Docket No: B-7738) | City of Benbrook (07-06-1470X) | May 24, 2007; May 31, 2007; Benbrook News | The Honorable Jerry Dittrich, Mayor, City of Benbrook, 911 Winscott Road, Benbrook, TX 76126 | August 30, 2007 | 480586
Tarrant (FEMA Docket No: B-7727) | City of Colleyville (07-06-0840P) | June 22, 2007; June 29, 2007; The Colleyville Courier | The Honorable David Kelly, Mayor, City of Colleyville, 100 Main Street, Colleyville, Texas 76034 | May 30, 2007 | 480590
Tarrant (FEMA Docket No: B-7727) | City of Fort Worth (07-06-0791P) | April 12, 2007; April 19, 2007; Fort Worth Star-Telegram | The Honorable Michael J. Moncrief, Mayor, City of Fort Worth, 1000 Throckmorton Street, Fort Worth, Texas 76102 | July 12, 2007 | 480596
Tarrant (FEMA Docket No: B-7727) | City of Fort Worth (07-06-0825P) | May 24, 2007; May 31, 2007; Fort Worth Star-Telegram | The Honorable Michael J. Moncrief, Mayor, City of Fort Worth, 1000 Throckmorton Street, Fort Worth, Texas 76102 | August 30, 2007 | 480596
Tarrant (FEMA Docket No: B-7727) | City of Haslet (07-06-1421P) | June 15, 2007; June 22, 2007; Haslet Harbinger | The Honorable Gary Hulsey, Mayor, City of Haslet, 105 Main Street, Haslet, Texas 76052 | May 29, 2007 | 480600
Tarrant (FEMA Docket No: B-7727) | City of Mansfield (07-06-1272P) | June 22, 2007; June 29, 2007; Mansfield News Mirror | The Honorable Mel Neuman, Mayor, City of Mansfield, 1200 East Board Street, Mansfield, Texas 76063 | September 28, 2007 | 480606
Travis (FEMA Docket No: B-7722) | Unincorporated areas of Travis County (07-06-0283P) | May 17, 2007; May 24, 2007; Austin American-Statesman | The Honorable Samuel T. Biscoe, Travis County Judge, P.O. Box 1748, Austin, TX 78767 | August 23, 2007 | 481026
Wichita (FEMA Docket No: B-7722) | City of Wichita Falls (07-06-0210P) | May 17, 2007; May 24, 2007; Wichita Falls Times/Record News | The Honorable Lanham Lyne, Mayor, City of Wichita Falls, P.O. Box 1431, Wichita Falls, TX 76307 | May 30, 2007 | 480662
Virginia:
Loudoun (FEMA Docket No: B-7722) | Town of Leesburg (07-03-0584P) | May 16, 2007; May 23, 2007; Loudoun Times Mirror | The Honorable Kristen C. Umstattd, Mayor, Town of Leesburg, P.O. Box 88, Leesburg, VA 20178 | April 27, 2007 | 510091
Frederick (FEMA Docket No: B-7727) | Unincorporated Areas of Frederick County (06-03-B184P) | June 14, 2007; June 21, 2007; Winchester Star | Mr. John Riley, Jr., County Administrator, Frederick County, 107 North Kent Street, Winchester, Virginia 22601 | September 12, 2007 | 510063
Frederick (FEMA Docket No: B-7727) | City of Winchester (06-03-B184P) | June 14, 2007; June 21, 2007; Winchester Star | The Honorable Elizabeth Minor, Mayor, City of Winchester, 422 National Avenue, Winchester, Virginia 22601 | September 12, 2007 | 510173
West Virginia:
Greenbrier (FEMA Docket No: B-7727) | Unincorporated Areas of Greenbrier County (07-03-0022P) | April 14, 2007; April 21, 2007; Mountain Messenger | The Honorable Betty Crookshanks, President, Greenbrier County Commission, 200 North Court Street, Lewisburg, West Virginia 24901 | July 30, 2007 | 540040
Greenbrier (FEMA Docket No: B-7727) | City of White Sulphur Springs (07-03-0022P) | April 14, 2007; April 21, 2007; Mountain Messenger | The Honorable Debra Fogus, Mayor, City of White Sulphur Springs, 34 West Main Street, White Sulphur Springs, West Virginia 24986 | July 30, 2007 | 540045

(Catalog of Federal Domestic Assistance No. 97.022, “Flood Insurance.”)

Dated: January 3, 2008.
David I. Maurstad,
Federal Insurance Administrator of the National Flood Insurance Program, Department of Homeland Security, Federal Emergency Management Agency.

[FR Doc. E8-703 Filed 1-15-08; 8:45 am]

BILLING CODE 9110-12-P